DEPARTMENT OF THE INTERIOR

National Park Service

[NPS-WASO-NRNHL-DTS#-28251; PPWOCRADI0, PCU00RP14.R50000]

National Register of Historic Places; Notification of Pending Nominations and Related Actions

AGENCY: National Park Service, Interior.

ACTION: Notice.

SUMMARY: The National Park Service is soliciting comments on the significance of properties nominated before June 15, 2019, for listing or related actions in the National Register of Historic Places.

DATES: Comments should be submitted by July 10, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before June 15, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Adams County

St. Stephen's Lutheran Church, 10828 Huron St., Northglenn, SG100004209

Mineral County

Wagon Wheel Gap Hot Springs Resort, 1 Goose Creek Rd., Creede, SG100004210

Montrose County

Fetz-Keller Ranch Headquarters, 61801 CO 90, Montrose, SG100004211

IOWA

Boone County

Des Moines Township #7, 843 R Ave., Boone vicinity, SG100004212

KENTUCKY

Bullitt County

Louisville to Bardstown Turnpike Milestones and Roadbed, Along and near US 31E from Louisville to Bardstown, Louisville, SG100004215

NEW YORK

New York County

East Harlem Historic District, Generally E. 111th-120th Sts., Park, Lexington, Pleasant, 1st-3rd Aves., New York, SG100004218

Suffolk County

Sag Harbor Hills, Azurest, and Ninevah Beach Subdivisions Historic District, Roughly Richards Dr., Hemstead St., Lincoln St., Harding Terr., & Terry Dr. Sag Harbor, SG100004217

OHIO

Richland County

Downtown Mansfield Historic District, Roughly bounded by Fifth St., Diamond St., Second St., and Mulberry St., Mansfield, SG100004214

Authority: Section 60.13 of 36 CFR part 60.

Dated: June 18, 2019.
Kathryn G. Smith,
Acting Chief, National Register of Historic Places/National Historic Landmarks Program.

[FR Doc. 2019-13444 Filed 6-24-19; 8:45 am]

BILLING CODE 4312-52-P